DEPARTMENT OF TRANSPORTATION

Federal Railroad Administration

[Docket Number FRA-2014-0057]

Petition for Waiver of Compliance

In accordance with Part 211 of Title 49 Code of Federal Regulations (CFR), this document provides the public notice that by a document dated June 10, 2014, Mr. Wayne Kirchhof, President of the Walkersville Southern Railroad (WSRR), petitioned the Federal Railroad Administration (FRA) for a waiver of compliance from certain provisions of the Federal railroad safety regulations contained at 49 CFR Part 215. FRA assigned the petition Docket Number FRA-2014-0057.

Specifically, WSRR requests a waiver from the stenciling requirement found at 49 CFR 215.303, for two flat cars, identified as Car Numbers 10 and 11.

WSRR states that the flat cars are more than 50 years of age from their original construction date and, therefore, are restricted per 49 CFR 215.203(a).

WSRR further states that these two flat cars have been outfitted with seats, and are used in passenger excursion service over 7 miles of track located entirely in Frederick County, MD, where all trains operate under restricted speed rules not exceeding 10 mph.

Additionally, WSRR states that the subject cars are not, and will not be, interchanged with any other railroad. WSRR's operating territory is generally rural in nature, and the cars have been inspected and found to be safe to operate.

WSRR has requested a Special Approval for these flat cars to continue in service in accordance with 49 CFR 205.203(c).

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 5, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on July 8, 2014.
Ron Hynes,
Director, Office of Safety Assurance and Compliance.

[FR Doc. 2014-17176 Filed 7-21-14; 8:45 am]

BILLING CODE 4910-06-P